DEPARTMENT OF DEFENSE

Office of the Secretary

Establishment of the Secretary of the Navy Advisory Panel

AGENCY: DoD.

ACTION: Renewal of Federal Advisory Committee.

SUMMARY: The Department of Defense gives notice that it is renewing the charter for the Secretary of the Navy Advisory Panel (“the Panel”). The Panel has been determined to be in the public interest.

FOR FURTHER INFORMATION CONTACT: Jim Freeman, Advisory Committee Management Officer for the Department of Defense, 703-692-5952.

SUPPLEMENTARY INFORMATION: This Federal Advisory Committee is being renewed under the provisions of the Federal Advisory Committee Act of 1972 (5 U.S.C. Appendix), the Government in the Sunshine Act of 1976 (5 U.S.C. 552b), and 41 CFR 102-3.50(a).

The Panel shall provide independent advice and recommendations on critical matters concerning the Department of the Navy, as set forth in this notice.

The Panel's focus will include Department of the Navy administration and management, recruitment and training, equipment acquisition and maintenance, military and civilian manpower systems, basing and support infrastructure, and logistical support. The Panel will also focus on research and development matters confronting the U.S. Navy and the U.S. Marine Corps and on matters pertaining to preserving the history and heritage of the Naval Services.

The Panel shall be composed of no more than 15 members. The members will be eminent authorities in the fields of science, research, finance, history, engineering, business, and industry.

The Panel members will be appointed by the Secretary of Defense or the Deputy Secretary of Defense for a term of service of one-to-four years and their appointments will be renewed on an annual basis in accordance with DoD policies and procedures. Members of the Panel who are not full-time or permanent part-time Federal employees will be appointed as experts and consultants under the authority of 5 U.S.C. 3109 to serve as special government employee (SGE) members. Panel members who are full-time or permanent part-time Federal employees will serve as regular government employee members. All members of the Panel are appointed to provide advice on behalf of the Government on the basis of their best judgment without representing any particular point of view and in a manner that is free from conflict of interest.

Panel members, if appointed by the Secretary of Defense or the Deputy Secretary of Defense as SGE members, will serve without compensation. However, Panel members will be reimbursed for travel and per diem as it pertains to official business of the Panel.

No member, unless authorized by the Secretary of Defense, may serve more than two consecutive terms of service on the Panel, to include its subcommittees, or serve on two DoD federal advisory committees at one time.

The Secretary of Defense, in consultation with the Secretary of the Navy, shall appoint the Panel's chairperson from the total membership.

The Secretary of the Navy, pursuant to DoD policies and procedures, may appoint, as deemed necessary, non-voting subject matter experts (SMEs) to assist the Panel or its subcommittees on an ad hoc basis. These non-voting SMEs are not members of the Panel or its subcommittees, and will not engage or participate in any deliberations by the Panel or its subcommittees. These non-voting SMEs, if not full-time or part-time Government employees, will be appointed under the authority of 5 U.S.C. 3109 on an intermittent basis to address specific issues under consideration by the Panel.

DoD, as necessary and consistent with the Panel's mission and DoD policies and procedures, may establish subcommittees, task forces, or working groups to support the Panel.

Establishment of subcommittees will be based upon a written determination, to include terms of reference, by the Secretary of Defense, the Deputy Secretary of Defense, or the Secretary of the Navy, as the DoD Sponsor.

Such subcommittees shall not work independently of the chartered Panel, and shall report all their recommendations and advice solely to the Panel for full deliberation and discussion. Subcommittees, task forces, or working groups have no authority to make decisions and recommendations, verbally or in writing, on behalf of the chartered Panel. No subcommittee or any of its members can update or report, verbally or in writing, directly to the DoD or any Federal officers or employees.

All subcommittee members shall be appointed in the same manner as the Panel members; that is, the Secretary of Defense or the Deputy Secretary of Defense shall appoint subcommittee members even if the member in question is already a member of the Panel. Subcommittee members, with the approval of the Secretary of Defense, may serve a term of one-to-four years; however, no member shall serve more than two consecutive terms of service on the subcommittee.

Subcommittee members, if not full-time or part-time Federal employees, will be appointed as experts and consultants under the authority of 5 U.S.C. 3109 to serve as SGE members, whose appointments must be renewed on an annual basis. With the exception of reimbursement for travel and per diem as it pertains to official travel related to the Panel or its subcommittees, Panel subcommittee members shall serve without compensation.

Each subcommittee member is appointed to provide advice on behalf of the Government on the basis of his or her best judgment without representing any particular point of view and in a manner that is free from conflict of interest.

All subcommittees operate under the provisions of the FACA, the Sunshine Act, governing Federal statutes and regulations, and established DoD policies and procedures.

Currently, DoD has approved the following two permanent subcommittees to the Panel:

(a) The Naval Research Advisory Committee shall be composed of not more than seven members and shall provide independent advice and recommendations on scientific, technical, research, and development matters confronting the U.S. Navy and the U.S. Marine Corps. Pursuant to 10 U.S.C. 5024(a), the subcommittee shall consist of civilians preeminent in the fields of science, research, and development work, and one member must be from the field of medicine.

The estimated number of meetings is four per year.

(b) The Secretary of the Navy's Advisory Subcommittee on Naval History shall be composed of not more than 15 members and shall provide independent advice and recommendations on matters pertaining to preserving the heritage and legacy of the Naval Services and disseminating their rich history to the Service and the American public. Advisory topics may include professional standards, methods, program priorities, cooperative relationships in Marine Corps and Navy's historical research and publication programs, museums, archives, archeology, libraries, manuscript collections, rare book collections, art collections, preservation, and curatorial activities. The subcommittee shall consist of civilians who have broad managerial experience, vision, and understanding in one or more of the following areas: military and maritime history, archives, museology, art, library science, and information technology.

The estimated number of meetings is one per year.

The Panel's Designated Federal Officer (DFO), pursuant to DoD policy, shall be a full-time or permanent part-time DoD employee, and will be appointed in accordance with established DoD policies and procedures.

The Panel's DFO is required to be in attendance at all Panel and subcommittee meetings for the duration of each and every meeting. However, in the absence of the Panel's DFO, a properly approved Alternate DFO, duly appointed to the Panel according to DoD policies and procedures, will attend the entire duration of all of the Panel or subcommittee meeting.

The DFO, or the Alternate DFO, will call all of the Panel and its subcommittee meetings; prepare and approve all meeting agendas; adjourn any meeting, when the DFO, or the Alternate DFO, determines adjournment to be in the public interest or required by governing regulations or DoD policies and procedures; and chair meetings when directed to do so by the official to whom the Panel reports.

Pursuant to 41 CFR 102-3.105(j) and 102-3.140, the public or interested organizations may submit written statements to the Secretary of the Navy Advisory Panel membership about the Panel's mission and functions. Written statements may be submitted at any time or in response to the stated agenda of planned meeting of Secretary of the Navy Advisory Panel.

All written statements shall be submitted to the Designated Federal Officer for the Secretary of the Navy Advisory Panel, and this individual will ensure that the written statements are provided to the membership for their consideration. Contact information for the Secretary of the Navy Advisory Panel's Designated Federal Officer can be obtained from the GSA's FACA Database— http://www.facadatabase.gov/.

The Designated Federal Officer, pursuant to 41 CFR 102-3.150, will announce planned meetings of the Secretary of the Navy Advisory Panel. The Designated Federal Officer, at that time, may provide additional guidance on the submission of written statements that are in response to the stated agenda for the planned meeting in question.

Dated: December 11, 2013.
Aaron Siegel,
Alternate OSD Federal Register Liaison Officer, Department of Defense.

[FR Doc. 2013-29772 Filed 12-13-13; 8:45 am]

BILLING CODE 5001-06-P